DEPARTMENT OF COMMERCE

Foreign-Trade Zones Board

[Docket 3-2009]

Foreign-Trade Zone 124—Gramercy, LA; Expansion of Subzone; Marathon Petroleum Company LLC (Oil Refinery); Garyville, LA

An application has been submitted to the Foreign-Trade Zones Board (the Board) by the Port of South Louisiana, grantee of FTZ 124, requesting authority to expand the subzone and the scope of manufacturing activity conducted under zone procedures within Subzone 124E, on behalf of Marathon Petroleum Company LLC in Garyville, Louisiana. The application was submitted pursuant to the provisions of the Foreign-Trade Zones Act, as amended (19 U.S.C. 81a-81u), and the regulations of the Board (15 CFR part 400). It was formally filed on February 3, 2009.

Subzone 124E (950 employees, 255,000 barrel per day capacity) was approved by the Board in 1995 for the manufacture of fuel products and certain petrochemical feedstocks (Board Order 773, 60 FR 49565, 9/26/1995, as amended by Board Order 1116, 65 FR 52696-52697, 9/30/2000). The subzone consists of one site (1,370 acres) located between U.S. 61 and the Mississippi River in Garyville, St. John the Baptist Parish, Louisiana, some 35 miles northwest of New Orleans.

The applicant is now requesting authority to expand the subzone to include an additional parcel (319 acres) adjacent to the subzone. The proposed expansion would include a new crude processing “train” as well as downstream units and would increase employment at the facility by 285. The expansion request also includes seven new hydrocarbon storage tanks within the existing subzone boundary and a new “receipts dock” for the admission of crude oil and other feedstocks into the refinery. The proposed expansion would increase the overall crude distillation capacity allowed under FTZ procedures to 435,000 barrels per day. No additional feedstocks or products have been requested.

Zone procedures would exempt production associated with the proposed expansion from customs duty payments on the foreign products used in exports. On domestic sales, the company would be able to choose the customs duty rates for certain petrochemical feedstocks (duty-free) by admitting foreign crude oil in non-privileged foreign status. The application indicates that the savings from zone procedures help improve the refinery's international competitiveness.

In accordance with the Board's regulations, Elizabeth Whiteman of the FTZ Staff is designated examiner to investigate the application and report to the Board.

Public comment is invited from interested parties. Submissions (original and 3 copies) shall be addressed to the Board's Executive Secretary at the address below. The closing period for their receipt is April 13, 2009. Rebuttal comments in response to material submitted during the foregoing period may be submitted during the subsequent 15-day period to April 27, 2009.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth_Whiteman@ita.doc.gov or (202) 482-0473.

Dated: February 3, 2009.
Andrew McGilvray,
Executive Secretary.

[FR Doc. E9-2643 Filed 2-6-09; 8:45 am]

BILLING CODE 3510-DS-P